FEDERAL COMMUNICATIONS COMMISSION

[OMB 3060-0999; FR ID 41410]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it can further reduce the information collection burden for small business concerns with fewer than 25 employees.

DATES: Written comments and recommendations for the proposed information collection should be submitted on or before September 3, 2021.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control No.: 3060-0999.

Title: Hearing Aid Compatibility Status Report and Section 20.19, Hearing Aid-Compatible Mobile Handsets (Hearing Aid Compatibility Act).

Form Numbers: FCC Form 655 and FCC Form 855.

Type of Review: Revision of a currently approved collection.

Respondents: Business or other for-profit entities.

Number of Respondents: 934 respondents; 934 responses.

Estimated Time per Response: 13.9710921 hours per response (average).

Frequency of Response: On occasion and annual reporting requirements, recordkeeping requirements, and third-party disclosure requirements.

Obligation to Respond: Required to obtain or retain benefits. Statutory authority for this information collection is contained in 47 U.S.C. 151, 154(i), 157, 160, 201, 202, 214, 301, 303, 308, 309(j), 310 and 610 of the Communications Act of 1934, as amended.

Total Annual Burden: 13,049 hours.

Total Annual Cost: No cost.

Privacy Impact Assessment: No impact(s).

Nature and Extent of Confidentiality: Information requested in the reports and certifications may include confidential information. However, covered entities are allowed to request that such materials submitted to the Commission be withheld from public inspection.

Needs and Uses: The Commission will submit the revised information collection to OMB to obtain a full three-year clearance. The changes being made to the information collect concern the Commission's wireless hearing aid compatibility rules as they relate to the obligations of wireless handset manufacturers and wireless service providers to: (1) Label and disclose certain information related to handset packaging; (2) post certain information on their publicly accessible websites; and (3) file annual status reports and certifications. No changes are being made to the information collection as related to standards development and the approved number of estimated respondents and responses.

The revisions to the information collection are necessitated by a Report and Order in WT Docket No. 20-3, FCC 21-28, adopted on February 16, 2021. In this Report and Order, the Commission adopted a new technical standard for determining hearing aid compatibility between hearing aids and wireless handsets and made other corresponding and implementation changes. In addition, the Commission revised the information that handset manufacturers and service providers must include on hearing aid-compatible wireless handset package labels and in the related package inserts or user manuals. The Commission revised the labeling rule in order to streamline the rule and remove outdated requirements. The new rule requires that the package label provide the volume control capabilities of a hearing aid-compatible handset that meets volume control requirements, and it maintains the requirement that a hearing aid-compatible handset's package label state that the handset is hearing aid-compatible. The new rule still requires hearing aid-compatible handsets to list the handset's hearing aid-compatible rating, but moves the location in which it is required to be listed from the package label to the package insert or user manual. The other requirements for package inserts and user manuals have not changed, but the requirements have been reorganized to make them easier to follow. The Commission's labeling revisions continue to allow consumers to access the information that they need to understand the hearing aid compatibility of handsets they are considering for purchase. At the same time, the labeling revisions give handset manufacturers and service providers flexibility in designing package labels and conveying supplemental information.

The Report and Order also revised website posting requirements for handset manufacturers and service providers. The revised rule requires handset manufacturers and service providers to post to their publicly accessible websites the technical standard used to determine hearing aid compatibility in addition to the information that handset manufacturers and service providers are presently required to post. Since handset manufacturers and service providers are already required to include the technical standard used to determine hearing aid compatibility in package inserts or user manuals for hearing aid-compatible handsets, this change will not substantially impact the existing paperwork burden estimates that OMB has already approved for this information collection. Further, the website posting requirement has been revised to eliminate the requirement that service providers post to their publicly accessible websites the different levels of functionality of the hearing aid-compatible handsets that they offer to the public. This change offsets any burden added by the requirement that service providers post the technical standard used to determine hearing aid compatibility.

Finally, the Report and Order addressed the status reporting and certification requirements for handset manufacturers and service providers. The Report and Order revised the dates that service providers must file their FCC Form 855 certifications and handset manufacturers must file their FCC Form 655 status reports. The forms were due January 15 and July 15 each year, respectfully, and now are due by January 31 and July 31. These changes were made to accommodate Federal holidays at the start of January and July and to make sure the forms contain information for the full preceding 12-month periods. The Commission uses these forms as the principal way to ensure compliance with its wireless hearing aid compatibility requirements. The Commission is also revising the forms to reflect the Commission's current hearing aid compatibility de minimis provisions and to reflect the Commission's new mailing address.

The changes the Commission is making will not affect the number of respondents or responses, burden hours, or costs presently approved by OMB for this information collection. The Commission requests that OMB approve the proposed revisions to the currently approved information collection in order to implement the changes the Commission adopted in the Report and Order. These changes benefit handset manufacturers and service providers by reducing regulatory burden while continuing to ensure that the Commission can fulfill its statutory obligation to monitor compliance with its hearing aid compatibility rules and make more complete and accessible information available to consumers. All other paperwork burden requirements previously approved by OMB for this information collection remain unchanged.

Federal Communications Commission.
Marlene Dortch,
Secretary, Office of the Secretary.

[FR Doc. 2021-16636 Filed 8-3-21; 8:45 am]

BILLING CODE 6712-01-P